ENVIRONMENTAL PROTECTION AGENCY

[FRL-6564-2]

Agency Information Collection Activities: Proposed Collection; Comment Request; Information Collection Request for the National Pollutant Discharge Elimination System (NPDES) Compliance Assessment Information

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): [Information Collection Request for the National Pollutant Discharge Elimination System (NPDES) Compliance Assessment Information, EPA ICR Number 1427.06, and OMB Control Number 2040-0110), expiring 09/30/00]. Before submitting the ICR to OMB for review and approval, EPA is soliciting comments on specific aspects of the proposed information collection as described below.

DATES: Comments must be submitted on or before May 22, 2000.

ADDRESSES: All public comments shall be submitted to: Betty West, Office of Wastewater Management, Water Permits Division, MC 4203, Ariel Rios Building, 1200 Pennsylvania Avenue, NW, Washington, DC 20460. Interested persons may obtain a copy of the proposed ICR without charge by calling or writing to Betty West at the Office of Wastewater Management, Water Permits Division, MC 4203, Ariel Rios Building, 1200 Pennsylvania Avenue, NW, Washington, DC 20460; telephone (202) 260-8486.

FOR FURTHER INFORMATION CONTACT: Betty West, telephone number (202) 260-8486; Facsimile Number (202) 260-1460; E-Mail address: west.betty@epa.gov.

SUPPLEMENTARY INFORMATION: Affected entities: Entities potentially affected by this action are those which are issued NPDES permits for the discharge of domestic wastewater, industrial wastewater, and storm water, and for the use and disposal of sewage sludge.

Title: Information Collection Agency Request for the National Pollutant Discharge Elimination System (NPDES) Compliance Assessment Information. (OMB Control No. 1040-0110; EPA ICR No.1427.06.) expiring 09/30/00.

Abstract: Pollutant discharge limits in a NPDES permit are designed to be protective of the environment and the public. Permitting authorities must assess whether the permittee is complying with these discharge limits on a consistent basis. Compliance is assessed by reviewing records, compliance schedule reports, and noncompliance reports for a bypass, upset, or maximum daily violation. Permittees must maintain such records, meet compliance schedules, and report violations as mandated in 40 CFR parts 122 and 501. The information that is collected can lead the permitting authority to follow through with informal discussions with the permittee (telephone and/or letters), permit modification, or enforcement action.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The information collection for compliance assessment and certification activities will involve an estimated 16,532 respondents per year with 2.15 total annual average responses per respondent. The time required for a response varies; the average burden hours per respondent is 6.6 hours. EPA estimates that the total annual cost is $19,161,763 for record keeping and $3,884,689 for reporting for a total respondent cost of $23,046,452. The total annual costs to respondents, recordkeepers, and government (excluding Federal government) is estimated to be $24,518,940. The compliance assessment and certification activities will entail an annual burden of 827,968 hours of recordkeeping and 147,207 hours of reporting for a total of 975,175 burden hours. These activities will also entail 51,089 burden hours for State governments as users of data.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 17, 2000.
Michael B. Cook,
Director, Office of Wastewater Management.

[FR Doc. 00-7230 Filed 3-22-00; 8:45 am]

BILLING CODE 6560-50-P